ENVIRONMENTAL PROTECTION AGENCY

40 CFR Part 52

[FL-92-200324(a); FRL-7534-2]

Approval and Promulgation of Implementation Plans Florida: Jacksonville Area Maintenance Plan Update

AGENCY: Environmental Protection Agency (EPA).

ACTION: Direct final rule.

SUMMARY: The EPA is approving revisions to the State Implementation Plan (SIP) submitted by the Florida Department of Environmental Protection (FDEP) on December 20, 2002. This SIP revision satisfies the requirement of the Clean Air Act (CAA) for the second 10-year update for the Jacksonville area (Duval County) 1-hour ozone maintenance plan.

DATES: This direct final rule is effective September 22, 2003 without further notice, unless EPA receives adverse comment by August 21, 2003. If adverse comment is received, EPA will publish a timely withdrawal of the direct final rule in the Federal Register and inform the public that the rule will not take effect.

ADDRESSES: Comments may be submitted by mail to: Heidi LeSane, Regulatory Development Section, Air Planning Branch, Air, Pesticides and Toxics Management Division, U.S. Environmental Protection Agency Region 4, 61 Forsyth Street, SW., Atlanta, Georgia 30303-8960. Comments may also be submitted electronically, or through hand delivery/courier. Please follow the detailed instructions described in (Part (I)(B)(1)(i) though (iii)) of the SUPPLEMENTARY INFORMATION section.

FOR FURTHER INFORMATION CONTACT: Heidi LeSane, Air, Pesticides & Toxics Management Division, Air Planning Branch, Regulatory Development Section, Environmental Protection Agency Region 4, Atlanta Federal Center, 61 Forsyth Street, SW., Atlanta, Georgia 30303-8960. Mrs. LeSane's phone number is 404-562-9035. She can also be reached via electronic mail at lesane.heidi@epa.gov or Lynorae Benjamin, Air, Pesticides & Toxics Management Division, Air Planning Branch, Air Quality Modeling & Transportation Section, Environmental Protection Agency Region 4, Atlanta Federal Center, 61 Forsyth Street, SW., Atlanta, Georgia 30303-8960. Ms. Benjamin's phone number is 404-562-9040. She can also be reached via electronic mail at benjamin.lynorae@epa.gov.

SUPPLEMENTARY INFORMATION:

I. General Information

A. How Can I Get Copies of This Document and Other Related Information?

1. The Regional Office has established an official public rulemaking file available for inspection at the Regional Office. EPA has established an official public rulemaking file for this action under FL-92-200324. The official public file consists of the documents specifically referenced in this action, any public comments received, and other information related to this action. Although a part of the official docket, the public rulemaking file does not include Confidential Business Information (CBI) or other information whose disclosure is restricted by statute. The official public rulemaking file is the collection of materials that is available for public viewing at the Regulatory Development Section, Air Planning Branch, Air, Pesticides and Toxics Management Division, U.S. Environmental Protection Agency Region 4, 61 Forsyth Street, SW., Atlanta, Georgia 30303-8960. EPA requests that if at all possible, you contact the contact listed in the FOR FURTHER INFORMATION CONTACT section to schedule your inspection. The Regional Office's official hours of business are Monday through Friday, 9:00 to 3:30 excluding federal holidays.

2. Copies of the State submittal and EPA's technical support document are also available for public inspection during normal business hours, by appointment, at the State Air Agency. Florida Department of Environmental Protection, Twin Towers Office Building, 2600 Blair Stone Road, Tallahassee, Florida 32399-2400.

3. Electronic Access. You may access this Federal Register document electronically through the Regulations.gov web site located at http://www.regulations.gov where you can find, review, and submit comments on Federal rules that have been published in the Federal Register, the Government's legal newspaper, and are open for comment.

For public commenters, it is important to note that EPA's policy is that public comments, whether submitted electronically or on paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and to Whom Do I Submit Comments?

You may submit comments electronically, by mail, or through hand delivery/courier. To ensure proper receipt by EPA, identify the appropriate rulemaking identification number by including the text “Public comment on proposed rulemaking FL-92-200324” in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. E-mail. Comments may be sent by electronic mail (e-mail) to lesane.heidi@epa.gov. Please include the text “Public comment on proposed rulemaking FL-92-200324” in the subject line. EPA's e-mail system is not an “anonymous access” system. If you send an e-mail comment directly without going through Regulations.gov, EPA's e-mail system automatically captures your e-mail address. E-mail addresses that are automatically captured by EPA's e-mail system are included as part of the comment that is placed in the official public docket, and made available in EPA's electronic public docket.

ii. Regulations.gov. Your use of Regulations.gov is an alternative method of submitting electronic comments to EPA. Go directly to Regulations.gov at http://www.regulations.gov, then select Environmental Protection Agency at the top of the page and use the go button. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in Section 2, directly below. These electronic submissions will be accepted in WordPerfect, Word or ASCII file format. Avoid the use of special characters and any form of encryption.

2. By Mail. Send your comments to: Heidi LeSane, Regulatory Development Section, Air Planning Branch, Air, Pesticides and Toxics Management Division, U.S. Environmental Protection Agency Region 4, 61 Forsyth Street SW., Atlanta, Georgia 30303-8960. Please include the text “Public comment on proposed rulemaking FL-92-200324” in the subject line on the first page of your comment.

3. By Hand Delivery or Courier. Deliver your comments to: Heidi LeSane, Regulatory Development Section, Air Planning Branch, Air, Pesticides and Toxics Management Division, 12th floor, U.S. Environmental Protection Agency Region 4, 61 Forsyth Street SW., Atlanta, Georgia 30303-8960. Such deliveries are only accepted during the Regional Office's normal hours of operation. The Regional Office's official hours of business are Monday through Friday, 9 to 3:30 excluding federal holidays.

C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

II. Background

The air quality maintenance plan is a requirement of the 1990 Clean Air Act Amendments for nonattainment areas that come into compliance with the national ambient air quality standard (NAAQS). The Jacksonville Area (Duval County) was designated as nonattainment for the 1-hour ozone NAAQS prior to the 1990 Clean Air Act Amendment. However, for the 3-year period, (1987 through 1989), air quality measurements for the Jacksonville Area showed compliance with the 1-hour ozone NAAQS. The area continued to attain the 1-hour ozone standard and the State requested that the EPA redesignate the Jacksonville area attainment for the 1-hour ozone standard on June 23, 1993. Included with this request was a 10-year air quality maintenance plan covering the years 1995 to 2005. This plan was developed in accordance with the appropriate guidelines. The EPA published a Federal Register notice approving this plan on January 3, 1995, and it became effective on March 6, 1995 (60 FR 41).

Subsequent revisions to this maintenance plan have been made. The current plan was approved by the EPA on April 24, 2003, and became effective on May 27, 2003 (68 FR 20072) . Up to this point, FDEP has revised the original plan to update emissions inventories reflecting more accurate emission estimates, to define specific Motor Vehicle Emissions Budgets (MVEB), to remove the motor vehicle inspection program (MVIP) credits, and to allocate a portion of the safety margin to the MVEB (66 FR 40137). This SIP revision satisfies the requirement of the Clean Air Act (CAA) for the second 10-year update for the Jacksonville area 1-hour ozone maintenance plan. Changes to the current maintenance plan include revisions to the emissions inventory for both on-road and non-road mobile sources, reflecting improved methodologies contained in the MOBILE6 and NONROAD emission models. New emissions data for both the base year (attainment year) and the projected years (2005 and 2015) are calculated. Also, updated MVEB in support of the transportation conformity process, are defined for volatile organic compounds (VOC) and nitrogen oxides (NOX) for the county. The updated budgets for 2005 replace previous MVEB contained in the first maintenance plan, which were based on an older emissions estimate using MOBILE5 emission factors for on-road motor vehicles. Additionally, this maintenance plan update provides new MVEB for the year 2015. EPA has determined that the MVEB in the SIP are adequate for transportation conformity purposes. The availability of the SIP with MVEB for 2015 was placed on EPA's adequacy web page on January 7, 2003. No request for this SIP submittal or adverse comments were received by the end of the public comment period on February 7, 2003. In this action, EPA finds the 2015 MVEB adequate for transportation conformity, and is proposing to approve the MVEB for 2005 and 2015. Note, since the 2005 MVEB are replacing existing MVEB, these budgets are not subject to EPA's Adequacy process.

III. Analysis of State's Submittal

On December 20, 2002, the FDEP submitted revisions to Florida State's Implementation Plan for the new ten-year maintenance plan to provide a 10-year extension to the maintenance plan as required by section 175A(b) of the CAA as amended in 1990. The underlying strategy of the maintenance plan is to maintain compliance with the 1-hour ozone standard by assuring that current and future emissions of VOC and NOX remain at or below attainment year emission levels. The estimated emissions of ozone precursors (i.e.,VOC and NOX) for the Jacksonville Area during the 1990 ozone season are provided in the following table.

Projected Emissions—Volatile Organic Compounds
[Tons per day]
VOC | Category | 1990 base year | 2005 | 2015
Duval | Stationary Point | 15.6 | 7.6 | 9.1
| Stationary Area | 51.3 | 45.2 | 52.2
| On-Road Mobile | 96.2 | 33.3 | 17.9
| Non-Road Mobile | 22.5 | 17.4 | 14.0
| Biogenic | 126.7 | 126.7 | 126.7
Total |  | 312.3 | 230.3 | 219.9
Safety Margin | Calculated as 1990 base-year minus projected year total |  | 82 | 92.4

Nitrogen Oxides
[Tons per day]
NOX | Category | 1990 base year | 2005 | 2015
Duval | Stationary Point | 101.2 | 104.8 | 120.4
| Stationary Area | 8.4 | 2.8 | 3
| On-Road Mobile | 81.0 | 55.5 | 22.6
| Non-Road Mobile | 28.1 | 31.3 | 26.1
| Biogenic | 0.3 | 0.3 | 0.3
Total |  | 218.9 | 194.7 | 172.4
Safety Margin | Calculated as 1990 base-year minus projected year total |  | 24.2 | 46.5

Motor Vehicle Emissions Budgets

Section 176(c) of the CAA, 42 U.S.C. 7506(c), states that transportation plans, programs, and projects must conform to an approved implementation plan. Pursuant to 40 CFR part 93, subpart T, the Transportation Conformity Rule, § 51.456(b), a specific emissions budget is defined for VOC and NOX for the Jacksonville area. The MVEB, based on the on-road mobile sources, are to be used by the local metropolitan planning organizations and transportation authorities to assure that transportation plans, programs, and projects are consistent with, and conform to, the long term maintenance of acceptable air quality in the Jacksonville Area.

The MVEB are defined for the county, for 2005 and 2015, in the state's submittal. The values, for both years, are equal to the 2005 on-road mobile source projected level of emissions plus a buffer of 24 percent. This buffer, which is an allocation from the safety margin, accounts for uncertainty in the projections and is available because of significant reductions of VOC and NOX that have occurred, and are projected to occur, primarily from mobile sources. The MVEB are constrained in each of the budget years to assure that the total emissions (i.e., all source categories) do not exceed the 1990 attainment year emissions. In no case are the projected total emissions (i.e., all source categories and including the allocation from the safety margin to the on-road mobile source category), for any year, greater than the attainment year emissions totals for either VOC or NOX. Under 40 CFR 93.101 the term safety margin is the difference between the attainment level (from all sources) and the projected level of emissions (from all sources) in the maintenance plan. The attainment level of emissions is the level of emissions during one of the years in which the area met the air quality health standard. The safety margin credit can be allocated to the transportation sector, however the total emission level must stay below the attainment level. The following table defines the MVEB for Jacksonville Area.

MVEB
[Tons per day]
County | Pollutant | 2005 | 2015
Duval | VOC NOX | 41.6 68.8 | 41.6 68.8

For the year 2005, the safety margin was 82 tpd for VOC and 24.2 tpd for NOX. After partial allocation of the safety margin to the MVEB, the remaining safety margins are 73.7 tpd for VOC and 10.4 tpd for NOX. In 2015, the safety margin was 92.4 tpd for VOC and 46.5 tpd for NOX. After partial allocation of the safety margin to the MVEB, the remaining safety margins are now 68.7 tpd for VOC and 0.3 tpd for NOX.

IV. Final Action

EPA is approving the aforementioned changes to the State of Florida SIP because they are consistent with the CAA and EPA policy. The EPA is publishing this rule without prior proposal because the Agency views this as a noncontroversial submittal and anticipates no adverse comments. However, in the proposed rules section of this Federal Register publication, EPA is publishing a separate document that will serve as the proposal to approve the SIP revision should adverse comments be filed. This rule will be effective September 22, 2003 without further notice unless the Agency receives adverse comments by August 21, 2003.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on September 22, 2003 and no further action will be taken on the proposed rule. Please note that if we receive adverse comment on an amendment, paragraph, or section of this rule and if that provision may be severed from the remainder of the rule, we may adopt as final those provisions of the rule that are not the subject of an adverse comment.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 22, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Reporting and recordkeeping requirements, Volatile organic compounds.

Dated: July 9, 2003.
A. Stanley Meiburg,
Acting Regional Administrator, Region 4.

Part 52 of chapter I, title 40, Code of Federal Regulations, is amended as follows:

PART 52—[AMENDED]

1. The authority citation for part 52 continues to read as follows:

Authority: 42. U.S.C. 7401 et seq.

Subpart K—Florida

2. Section 52.520(e), is amended by revising the entry for “Revision to Maintenance Plan for Jacksonville, Florida Area” to read as follows:

§ 52.520 Identification of plan.

* * * * *

(e) * * *

EPA-Approved Florida Non-Regulatory Provisions
Provision | State effective date | EPA approval date | Federal Register notice | Explanation
* * * * * * *
Revision to Maintenance Plan Update for Jacksonville Area, Florida | December 20, 2002 | July 22, 2003 | [Insert citation of publication]

[FR Doc. 03-18500 Filed 7-21-03; 8:45 am]

BILLING CODE 6560-50-P